DEPARTMENT OF TRANSPORTATION

Federal Aviation Administration

14 CFR Part 39

[Docket No. 2003-NE-27-AD; Amendment 39-13325; AD 2003-20-07]

RIN 2120-AA64

Airworthiness Directives; General Electric Company (GE) CF6-80E1A2 Turbofan Engines

AGENCY: Federal Aviation Administration (FAA), DOT.

ACTION: Final rule; request for comments.

SUMMARY: The FAA is adopting a new airworthiness directive (AD) for General Electric Company (GE) CF6-80E1A2 turbofan engines with forward engine mount platforms part numbers (P/Ns) 1520M53G04 and 1846M24G15 installed. This AD requires initial and repetitive fluorescent penetrant inspections of cast material forward engine mount platforms. This AD is prompted by the airframe manufacturer's revised analyses of loads on the forward engine mount. We are issuing this AD to prevent engine separation that could result from cracking of the forward engine mount platform.

DATES: Effective November 3, 2003.

We must receive any comments on this AD by December 2, 2003.

ADDRESSES: Use one of the following addresses to submit comments on this AD:

• By mail: The Federal Aviation Administration (FAA), New England Region, Office of the Regional Counsel, Attention: Rules Docket No. 2003-NE-27-AD, 12 New England Executive Park, Burlington, MA 01803-5299.

• By fax: (781) 238-7055.

• By e-mail: 9-ane-adcomment@faa.gov.

You can get the service information referenced in this AD from General Electric Company via Lockheed Martin Technology Services, 10525 Chester Road, suite C, Cincinnati, Ohio 45215, telephone (513) 672-8400; fax (513) 672-8422.

You may examine the AD docket, by appointment, at the FAA, New England Region, Office of the Regional Counsel, 12 New England Executive Park, Burlington, MA.

FOR FURTHER INFORMATION CONTACT: Karen Curtis, Aerospace Engineer, Engine Certification Office, FAA, Engine and Propeller Directorate, 12 New England Executive Park, Burlington, MA 01803-5299; telephone (781) 238-7192; fax (781) 238-7199.

SUPPLEMENTARY INFORMATION: GE has notified the FAA that an unsafe condition may exist on GE CF6-80E1A2 turbofan engines. GE advises that Airbus Industrie has revised their analyses of Airbus A330 airplane engine mount loads. The revised analyses predict a reduction in calculated low-cycle-fatigue (LCF) life capability for forward mount platforms made from cast material. Airbus Industrie has updated the airplane maintenance manual with revised inspection thresholds and intervals for the affected engine mount components. These revised inspection thresholds and intervals are published in Chapter 5 of the engine manual. This AD is necessary to make those inspection thresholds and intervals mandatory for all operators.

FAA's Determination and Requirements of This AD

Although no airplanes that are registered in the United States use these GE CF6-80E1A2 turbofan engines, the possibility exists that the engines could be used on airplanes that are registered in the United States in the future. The unsafe condition described previously is likely to exist or develop on other GE CF6-80E1A2 turbofan engines of the same type design. We are issuing this AD to prevent engine separation that could result from cracking of the forward engine mount platform. This AD requires initial and repetitive fluorescent penetrant inspections of cast material forward engine mount platforms, P/Ns 1520M53G04 and 1846M24G15. The thresholds and intervals were established to be consistent with inspections required by the airframe manufacturer.

FAA's Determination of the Effective Date

Sine there are currently no domestic operators of GE CF6-80E1A2 turbofan engines, notice and opportunity for public comment before issuing this AD are unnecessary. Therefore, a situation exists that allows the immediate adoption of this regulation.

Changes to 14 CFR Part 39—Effect on the AD

On July 10, 2002, we issued a new version of 14 CFR part 39 (67 FR 47997, July 22, 2002), which governs our AD system. This regulation now includes material that relates to special flight permits, alternative methods of compliance, and altered products. This material previously was included in each individual AD. Since this material is included in 14 CFR part 39, we will not include it in future AD actions.

Comments Invited

This AD is a final rule that involves requirements affecting flight safety and was not preceded by notice and an opportunity for public comment; however, we invite you to submit any written relevant data, views, or arguments regarding this AD. Send your comments to an address listed under ADDRESSES. Include “AD Docket No. 2003-NE-27-AD” in the subject line of your comments. If you want us to acknowledge receipt of your mailed comments, send us a self-addressed, stamped postcard with the docket number written on it; we will date-stamp your postcard and mail it back to you. We specifically invite comments on the overall regulatory, economic, environmental, and energy aspects of the rule that might suggest a need to modify it. If a person contacts us verbally, and that contact relates to a substantive part of this AD, we will summarize the contact and place the summary in the docket. We will consider all comments received by the closing date and may amend the AD in light of those comments.

We are reviewing the writing style we currently use in regulatory documents. We are interested in your comments on whether the style of this document is clear, and your suggestions to improve the clarity of our communications with you. You may get more information about plain language at http://www.faa.gov/language and http://www.plainlanguage.gov.

Examining the AD Docket

You may examine the AD Docket (including any comments and service information), by appointment, between 8 a.m. and 4:30 p.m., Monday through Friday, except Federal holidays. See ADDRESSES for the location.

Regulatory Findings

We have determined that this AD will not have federalism implications under Executive Order 13132. This AD will not have a substantial direct effect on the States, on the relationship between the national Government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD and placed it in the AD Docket. You may get a copy of this summary by sending a request to us at the address listed under ADDRESSES. Include “AD Docket No. 2003-NE-27-AD” in your request.

List of Subjects in 14 CFR Part 39

Air transportation, Aircraft, Aviation safety, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2003-20-07 General Electric Company: Amendment 39-13325. Docket No. 2003-NE-27-AD.

Effective Date

(a) This airworthiness directive (AD) becomes effective November 3, 2003.

Affected ADs

(b) None.

Applicability

(c) This AD applies to General Electric Company (GE) CF6-80E1A2 turbofan engines with forward engine mount platforms part numbers (P/Ns) 1520M53G04 and 1846M24G15 installed. These engines are installed on, but not limited to Airbus Industrie A330 airplanes.

Unsafe Condition

(d) This AD is prompted by revised analyses of forward engine mount loads by the airframe manufacturer. We are issuing this AD to prevent engine separation that could result from cracking of the forward engine mount platform.

Compliance

(e) You are responsible for having the actions required by this AD performed within the compliance times specified unless the actions have already been done.

Platforms Previously Inspected

(f) For platforms that were inspected using a fluorescent penetrant inspection (FPI) before the effective date of this AD, repeat the FPI within 4,000 cycles-in-service-since last inspection (CSLI).

Platforms Not Previously Inspected

(g) For platforms that were not inspected using an FPI before the effective date of this AD, inspect the platform using an FPI at the next exposure, or before exceeding 6,360 cycles-since-new (CSN), whichever occurs first.

Platform Repetitive Inspections

(h) Repeat the FPI within every 4,000 CSLI.

Alternative Methods of Compliance

(i) The Manager, Engine Certification Office, has the authority to approve alternative methods of compliance for this AD if requested using the procedures found in 14 CFR 39.19.

Material Incorporated by Reference

(j) None.

Related Information

(k) GE Aircraft Engines Alert Service Bulletin No. CF6-80E1 S/B 72-A0195 pertains to the subject of this AD. Information on performing FPI can be found in the CF6 component maintenance manual, GEK 99410, section 71-21-02.

Issued in Burlington, Massachusetts, on September 25, 2003.
Peter A. White,
Acting Manager, Engine and Propeller Directorate, Aircraft Certification Service.

[FR Doc. 03-25000 Filed 10-2-03; 8:45 am]

BILLING CODE 4910-13-P